DEPARTMENT OF ENERGY

Federal Energy Regulatory Commission

Combined Notice of Filings #1

Take notice that the Commission received the following electric rate filings:

Docket Numbers: ER10-3272-006.

Applicants: Lower Mount Bethel Energy, LLC.

Description: Compliance filing: Informational Filing Re Upstream Change in Ownership and Request for Waiver to be effective N/A.

Filed Date: 8/20/18.

Accession Number: 20180820-5064.

Comments Due: 5 p.m. ET 9/10/18.

Docket Numbers: ER18-1662-001.

Applicants: Southwest Power Pool, Inc.

Description: Tariff Amendment: Deficiency Response—Clarify Contingency Reserve Clearing During CR Events to be effective 7/22/2018.

Filed Date: 8/20/18.

Accession Number: 20180820-5101.

Comments Due: 5 p.m. ET 9/10/18.

Docket Numbers: ER18-2256-000.

Applicants: Central Maine Power Company.

Description: § 205(d) Rate Filing: Bilateral, Cost-Based Transmission Service Agreements (Eversource) to be effective 10/20/2018.

Filed Date: 8/20/18.

Accession Number: 20180820-5143.

Comments Due: 5 p.m. ET 9/10/18.

Docket Numbers: ER18-2257-000.

Applicants: Central Maine Power Company.

Description: § 205(d) Rate Filing: Bilateral, Cost-Based Transmission Service Agreements (NG) to be effective 10/20/2018.

Filed Date: 8/20/18.

Accession Number: 20180820-5145.

Comments Due: 5 p.m. ET 9/10/18.

Docket Numbers: ER18-2258-000.

Applicants: Central Maine Power Company.

Description: § 205(d) Rate Filing: Bilateral, Cost-Based Transmission Service Agreements (Unitil) to be effective 10/20/2018.

Filed Date: 8/20/18.

Accession Number: 20180820-5147.

Comments Due: 5 p.m. ET 9/10/18.

Docket Numbers: ER18-2259-000.

Applicants: Central Maine Power Company.

Description: § 205(d) Rate Filing: Bilateral, Cost-Based Transmission Service Agreements (HQUS Eversource) to be effective 10/20/2018.

Filed Date: 8/20/18.

Accession Number: 20180820-5149.

Comments Due: 5 p.m. ET 9/10/18.

Docket Numbers: ER18-2260-000.

Applicants: Central Maine Power Company.

Description: § 205(d) Rate Filing: Bilateral, Cost-Based Transmission Service Agreements (National Grid) to be effective 10/20/2018.

Filed Date: 8/20/18.

Accession Number: 20180820-5151.

Comments Due: 5 p.m. ET 9/10/18.

Docket Numbers: ER18-2261-000.

Applicants: Central Maine Power Company.

Description: § 205(d) Rate Filing: Bilateral, Cost-Based Transmission Service Agreements (HQUS Additional) to be effective 10/20/2018.

Filed Date: 8/21/18.

Accession Number: 20180821-5000.

Comments Due: 5 p.m. ET 9/11/18.

Docket Numbers: ER18-2262-000.

Applicants: Central Maine Power Company.

Description: § 205(d) Rate Filing: Bilateral, Cost-Based Transmission Service Agreements (HQUS Unitil) to be effective 10/20/2018.

Filed Date: 8/21/18.

Accession Number: 20180821-5003.

Comments Due: 5 p.m. ET 9/11/18.

Docket Numbers: ER18-2263-000.

Applicants: Virginia Electric and Power Company.

Description: Petition for Waiver of Formula Rate and Protocols, et al. of Virginia Electric and Power Company.

Filed Date: 8/20/18.

Accession Number: 20180820-5157.

Comments Due: 5 p.m. ET 8/30/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 21, 2018.
Nathaniel J. Davis, Sr.,
Deputy Secretary.

[FR Doc. 2018-18468 Filed 8-24-18; 8:45 am]

BILLING CODE 6717-01-P